DEPARTMENT OF ENERGY

Federal Energy Regulatory Commission

Notice of Intent To File an Application for a New License

January 29, 2002.

a. Type of Filing: Notice of Intent to File an Application for a New License.

b. Project No.: 2146.

c. Date Filed: November 19, 2001.

d. Submitted By: Alabama Power Company—current licensee.

e. Name of Project: Coosa River Hydroelectric Project.

f. Location: On the Coosa River in Calhoun, Cherokee, Chilton, Coosa, Elmore, Etowah, Shelby, St. Clair, and Talladega Counties, Alabama, and in Floyd County, Georgia. The project occupies federal lands administered by the U.S. Army Corps of Engineers.

g. Filed Pursuant to: Section 15 of the Federal Power Act.

h. Licensee Contact: Jim Crew, JFCREW@southernco.com, (205) 257-4265, or Barry Lovett, BKLOVETT@southernco.com, (205) 257-1268.

i. FERC Contact: Ron McKitrick, ronald.mckitrick@ferc.fed.us, (770) 452-3778.

j. Effective date of current license: August 1, 1957.

k. Expiration date of current license: July 31, 2007.

l. Description of the Project: The project consists of the following five developments:

The Weiss Development consists of the following existing facilities: (1) The 392-foot-long Weiss Dam consisting of: (a) A 263-foot-long concrete spillway section equipped with five 40-foot-wide by 38-foot-high Taintor gates and one 16-foot-wide by 22-foot-high Taintor trash gate; (b) a 7,000-foot-long east embankment; (c) a 4,800-foot-long west embankment; (2) the 30,200-acre Weiss Lake with a normal water surface elevation of 564 feet msl; (3) a 7,000-foot-long intake canal leading to; (4) a 8,900-foot-long east embankment and a 9,800-foot-long west embankment; (5) a powerhouse containing three generating units with a total installed capacity of 87.75 MW, (6) a 1,300-foot-long tailrace; (7) two 115-kV transmission lines; and (8) other appurtenances.

The Henry Development consists of the following existing facilities: (1) The 858-foot-long Henry Dam consisting of: (a) A 305-foot-long concrete spillway section equipped with six 40-foot-wide by 29-foot-high Taintor gates; (b) a 300-foot-long intake section; (c) an 850-foot-long east embankment; (d) a 3,200-foot-long west embankment; (2) the 11,235-acre Henry Lake with a normal water surface elevation of 508 feet msl; (3) a powerhouse containing three generating units with a total installed capacity of 72.9 MW; (4) two 115-kV transmission lines; and (5) other appurtenances.

The Logan Martin Development consists of the following existing facilities: (1) The 702-foot-long Logan Martin Dam consisting of: (a) A 327-foot-long concrete spillway section equipped with six 40-foot-wide by 38-foot-high Taintor gates and one 17.5-foot-wide by 21.0-foot-high trash gate; (b) a 4,650-foot-long east embankment; (c) a 870-foot-long west embankment; (2) the 15,263-acre Logan Martin Lake with a normal water surface elevation of 465 feet msl; (3) a powerhouse containing three generating units with a total installed capacity of 128.25 MW; (4) four 115-kV transmission lines; and (5) other appurtenances.

The Lay Development consists of the following existing facilities: (1) The Lay Dam consisting of: (a) A 194-foot-long concrete bulkhead; (b) a 304-foot-long concrete intake section; (c) a 930-foot-long concrete spillway section equipped with twenty-six 30-foot-wide by 17-foot-high vertical lift gates; (d) a 180-foot-long concrete bulkhead; (e) a 512-foot-long embankment; (2) the 12,000-acre Lay Lake with a normal water surface elevation of 396 feet msl; (3) a powerhouse containing six generating units with a total installed capacity of 177.0 MW; (4) two 44-kV transmission lines and four 115-kV transmission lines; and (5) other appurtenances.

The Bouldin Development consists of the following existing facilities: (1) The Bouldin Dam consisting of: (a) A 2,200-foot-long embankment; (b) a 228-foot-long concrete intake section; (c) a 7,000-foot-long embankment; (2) the 920-acre Bouldin Lake with a normal water surface elevation of 252 feet msl; (3) a powerhouse containing three generating units with a total installed capacity of 255.0 MW; (4) a 5-mile-long tailrace canal; (5) four 115-kV transmission lines; and (6) other appurtenances.

m. Each application for a new license and any competing license applications must be filed with the Commission at least 24 months prior to the expiration of the existing license. All applications for license for this project must be filed by July 31, 2005.

n. Copies of this filing are on file with the Commission and are available for public inspection. This filing may also be viewed on the web at http://www.ferc.gov using the “RIMS” link, select “Docket#” and follow the instructions (call 202-208-2222 for assistance). A copy is also available for inspection and reproduction by contacting the applicant identified in item h above.

C. B. Spencer,
Acting Secretary.

[FR Doc. 02-2574 Filed 2-1-02; 8:45 am]

BILLING CODE 6717-01-P